NATIONAL ARCHIVES AND RECORDS ADMINISTRATION

Agency Information Collection Activities: Proposed Collection; Comment Request

AGENCY: National Archives and Records Administration (NARA).

ACTION: Notice.

SUMMARY: NARA is giving public notice that the agency proposes to request extension of three currently approved information collections. The first information collection is used in all NARA research rooms and museums for customers to provide comments, suggestions, and complaints about NARA service. The information will be used to improve service and plan future services. The other two currently approved information collections are used in the National Historical Publications and Records Commission (NHPRC's) grant program for subvention of part of the costs of manufacturing and distributing volumes published by NHPRC-supported documentary editorial projects. One of the NHPRC information collections is a grant application prepared by university and other non-profit presses applying for a subvention grant. The other NHPRC information collection is a sales report made by a non-profit press which has received a subvention grant from the NHPRC. The public is invited to comment on the proposed information collections pursuant to the Paperwork Reduction Act of 1995.

DATES: Written comments must be received on or before November 13, 2000 to be assured of consideration.

ADDRESSES: Comments should be sent to: Paperwork Reduction Act Comments (NHP), Room 3200, National Archives and Records Administration, 8601 Adelphi Rd, College Park, MD 20740-6001; or faxed to 301-713-6913; or electronically mailed to tamee.fechhelm@arch2.nara.gov.

FOR FURTHER INFORMATION CONTACT: Requests for additional information or copies of the proposed information collections and supporting statements should be directed to Tamee Fechhelm at telephone number 301-713-6730, or fax number 301-713-6913.

SUPPLEMENTARY INFORMATION: Pursuant to the Paperwork Reduction Act of 1995 (Public Law 104-13), NARA invites the general public and other Federal agencies to comment on proposed information collections. The comments and suggestions should address one or more of the following points: (a) Whether the proposed information collections are necessary for the proper performance of the functions of NARA; (b) the accuracy of NARA's estimate of the burden of the proposed information collections; (c) ways to enhance the quality, utility, and clarity of the information to be collected; and (d) ways to minimize the burden of the collection of information on respondents, including the use of information technology. The comments that are submitted will be summarized and included in the NARA request for Office of Management and Budget (OMB) approval. All comments will become a matter of public record. In this notice, NARA is soliciting comments concerning the following information collections:

1. Title: Customer Comment Form.

OMB number: 3095-0007.

Agency form number: NA Form 14045.

Type of review: Regular.

Affected public: Individuals.

Estimated number of respondents: 1,925.

Estimated time per response: 5 minutes.

Frequency of response: On occasion.

Estimated total annual burden hours: 160 hours.

Abstract: The information collection is a customer comment form made available to persons who use NARA services or visit NARA museums. The form is voluntary and is used to record comments, complaints, and suggestions from NARA customers. NARA uses the information to correct problems and improve service.

2. Title: NHPRC Subvention Grant Guidelines and Application.

OMB number: 3095-0021.

Agency form number: N/A.

Type of review: Regular.

Affected public: Universities and non-profit presses.

Estimated number of respondents: 18.

Estimated time per response: 6 hours.

Frequency of response: On occasion. On the average, a press submits two subvention applications per year.

Estimated total annual burden hours: 216 hours.

Abstract: The information collection is prescribed by 36 CFR 1206. The application is submitted by university and other non-profit presses applying to the NHPRC grant program for subvention of part of the costs of manufacturing and distributing volumes published by NHPRC-supported editorial projects.

3. Title: NHPRC Annual Sales Reports for Subvention Grants.

OMB number: 3095-0022.

Agency form number: None.

Type of review: Regular.

Affected public: Non-profit presses that have received an NHPRC subvention grant.

Estimated number of respondents: 18.

Estimated time per response: 1 hour.

Frequency of response: One time only. On the average, a press has two on-going subvention grants and therefore submits two sales reports per year.

Estimated total annual burden hours: 36 hours.

Abstract: The information collection is prescribed by 36 CFR 1206. The sales information provided by non-profit presses is used by Commission staff to gauge interest among scholars and the general public in documentary editions supported by Commission grants.

Dated: September 5, 2000.
L. Reynolds Cahoon,
Assistant Archivist for Human Resources and Information Services.

[FR Doc. 00-23476 Filed 9-12-00; 8:45 am]

BILLING CODE 7515-01-P